DEPARTMENT OF EDUCATION

[CFDA No.: 84.334]

Gaining Early Awareness and Readiness for Undergraduate Programs (GEAR UP)

AGENCY: Office of Postsecondary Education, Department of Education.

ACTION: Notice of Pre-Application Technical Assistance Workshops.

SUMMARY: The Department of Education, through the National Council for Community and Education Partnerships (NCCEP), has scheduled five regional technical assistance workshops between February 7, 2000 and February 22, 2000 to help prospective applicants better understand the Department's approach to implementing the competitive grant process to be held in spring 2000 under the Gaining Early Awareness and Readiness for Undergraduate Programs (GEAR UP) Grant Program, authorized by Title IV, Part A, subpart 2, chapter 2 of the Higher Education Act of 1965, as amended.

Available Guidelines: You may download a draft of the application guidelines from the program web site at http://www.ed.gov/gearup/ or by contacting the GEAR UP Program Office at(202) 502-7676 or e-mail at gearup@ed.gov.

SUPPLEMENTARY INFORMATION: At these workshops, the public will learn more about the purposes and requirements of this program, how to apply for funds, program eligibility requirements, the application selection process, and considerations that might help them to improve the quality of their grant applications. In addition, the importance of making data collection and assessment as a part of their program practice will also be discussed. Persons with expertise on these and other issues related to the GEAR UP Program will be available to answer any questions on these topics.

Date of Technical Assistance Workshops: The workshops are scheduled to be held in:

1. Phoenix, AZ: February 7, 2000; Wyndham Garden Hotel, North Phoenix; 2641 W. Union Hills Drive; Phoenix, AZ 20001. Contact Person: James Davis, (202) 502-7676.

2. Kansas City, MO: February 9, 2000; Hyatt Regency Crown Center; 2345 McGee; Kansas City, MO 64108. Contact Person: Steve Silver, (202) 502-7676.

3. Jackson, MS: February 16, 2000; Ramada Inn Southwest Conference Center; 1525 Ellis Avenue; Jackson, MS 39204. Contact Person: Walter Howell, (202) 502-7676.

4. Washington, DC: February 18, 2000; Hyatt Regency on Capitol Hill; 400 New Jersey Ave., NW; Washington, DC 20001. Contact Person: Kelcey Klass, (202) 502-7676.

5. Edinburg, TX: February 22, 2000; Holiday Inn; 1806 South Closner Blvd.; Edinburg, TX 78539. Contact Person: Sylvia Ross, (202) 502-7676.

Any interested parties are invited to attend these workshops.

Assistance to Individuals With Disabilities at the Technical Assistance Workshops

The technical assistance workshop sites are accessible to individuals with disabilities. The Department will provide a sign language interpreter at each of the scheduled workshops. If you will need an auxiliary aid or service to participate in the workshop (e.g. interpreting service, assistive listening device, or materials in an alternate format), notify the contact person listed for the workshop at least two weeks before the scheduled workshop date. Although we will attempt to meet a request received after that date, we may not be able to make available the requested auxiliary aid or service because of insufficient time to arrange it.

For Additional Workshop Information: You may contact the person mentioned as contact for each workshop site listed.

Participants should register for these workshops online at http://www.edpartnerships.org or by completing the copy of the registration form appended to this notice and faxing the completed form to the attention of Adella Santos at (202) 530-0809.

FOR FURTHER INFORMATION CONTACT: Gear up Program Office; Department of Education, Office of Postsecondary Education; 1990 K Street, NW; Washington, DC 20006. Inquiries may be sent by e-mail to gearup@ed.gov (please type in the subject line: PRE-APPLICATION WORKSHOP) or by fax to: (202) 502-7675.

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites: http://ocfo.ed.gov/fedreg.htm, http://www.ed.gov/news.html

To use the PDF you must have the Adobe Acrobat Reader Program with Search, which is available free at either of the previous sites. If you have questions about using the PDF, call the U.S. Government Printing Office (GPO), toll free, at 1-888-293-6498; or in Washington, D.C., area at (202) 512-1530.

Note: The official version of this document is the document published in the Federal Register. Free Internet access to the official edition of the Federal Register and the Code of Federal Regulations is available on GPO Access at: http://www.access.gpo.gov/nara/index.html

Dated: January 28, 2000.
A. Lee Fritschler,
Assistant Secretary for Postsecondary Education.

BILLING CODE 4000-01-U

[FR Doc. 00-2354 Filed 2-2-00; 8:45 am]

BILLING CODE 4000-01-C